DEPARTMENT OF HOUSING AND URBAN DEVELOPMENT

[Docket No. FR-7090-N-03]

60-Day Notice of Proposed Information Collection: Relocation Options Study, OMB Control No.: 2528-NEW

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 28, 2024.

ADDRESSES: Interested persons are invited to submit comments regarding this proposal. Written comments and recommendations for the proposed information collection can be submitted within 60 days of publication of this notice to www.reginfo.gov/public/do/PRAMain. Find this particular information collection by selecting, “Currently under 60-day Review—Open for Public Comments” or by using the search function. Interested persons are also invited to submit comments regarding this proposal by name and/or OMB Control Number and can be sent to: Anna Guido, Reports Management Officer, REE, Department of Housing and Urban Development, 451 7th Street SW, Room 8210, Washington, DC 20410-5000 or email at PaperworkReductionActOffice@hud.gov.

FOR FURTHER INFORMATION CONTACT: Anna Guido, Reports Management Officer, Department of Housing and Urban Development, 451 7th Street SW, Washington, DC 20410; email Anna.P.Guido@hud.gov; telephone (202) 402-5535 (this is not a toll-free number). HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A.

A. Overview of Information Collection

Title of Information Collection: Relocation Options Study.

OMB Approval Number: 2528-NEW.

Type of Request: New data collection.

Form Number: N/A.

Description of the need for the information and proposed use: The Office of Policy Development and Research (PD&R), at the U.S. Department of Housing and Urban Development (HUD), is proposing the collection of information for the Relocation Options study.

Increasing threats of natural hazards due to climate change may necessitate the movement of households or entire communities to mitigate risk to people and properties. This research will conduct analysis of the efficacy of buyouts, relocation, and resettlement in mitigating hazard risk exposure; assess the potential adverse outcomes, inequities, and opportunity of such programs; and determine the needed capacity and coordination of Federal, state, and local levels to enable successful buyout, relocation, and resettlement initiatives. The goal of this research is to improve equity in how disaster recovery and mitigation funds are used for households that participate in buyout programs in communities that have received Community Development Block Grant-Disaster Recovery (CDBG-DR) grants or Community Development Block Grant Mitigation (CDBG-MIT) grants. Results from this research shall be interpretable to inform a framework for a pilot program and evaluation structure to inform the ongoing federal approach to hazard-related relocation. Currently, a “buyout” for CDBG-DR and CDBG-MIT grants means the acquisition of a property located in a floodway, floodplain, or other grantee-designated high-risk area, that is intended to reduce risk from future hazards.

This Federal Register Notice provides an opportunity to comment on the information collection for this study titled Relocation Options. The information collection is designed to support the Relocation Options study to better understand outcomes of households and communities that have participated in homeowner buyout programs using CDBG-DR or CDBG-MIT funds. This work will include a qualitative component and generate principles for equitable and responsible buyouts, relocation, and resettlement strategies. The study includes interviews of CDBG-DR grantees and program administrators, other relevant community stakeholders, and homeowners that have gone through a CDBG-DR or CDBG-MIT funded buyout process.

Respondents: CDBG-DR grantee representatives and administrators; other relevant community stakeholders, and homeowners living in CDBG-DR grantee jurisdictions.

Estimated Number of Respondents: Information may be collected from approximately a total of 27 key informants. This includes: (1) 27 qualitative interviews with grantees, CDBG-DR or CDBG-MIT program administrators, other relevant stakeholders, and homeowners that participated in a CDBG-DR or CDBG-MIT buyout program.

Estimated Time per Response: Interviews are expected to take one hour each. The total estimated time is 27 hours.

Frequency of Response: One time for each interview.

Estimated Total Annual Cost: $4,058.20 for all individual document/information solicited for related research activities covered under approval for researchers conducting primary interview data collection and research participants.

The Table below provides the estimated burden hours for interviews. These estimates assume the maximum targeted number of study participants and are calculated as the time needed to complete individual surveys and interviews or to participate in focus groups. The table breaks out time to complete informed consent and time participating in the study by key informant group (Government Stakeholders, Community Stakeholders, and Program Participants).

Calculating the annual total cost burden to respondents, the project team utilized Occupational Employment Statistics from the U.S. Department of Labor's Bureau of Labor Statistics to identify the median hourly wages (as classified by Standard Occupational Classification, SOC, codes) for October 2023 for interview participants.

Annual Burden Table
Information collection | Number of respondents | Frequency of response | Responses per annum | Burden hour per response | Annual burden hours | Hourly cost per response | Annual cost
Interviews with government stakeholders | 27 | 1 | 1 | 1 | 27 | $59.90 | $1,617.30
Interviews with community stakeholders | 27 | 1 | 1 | 1 | 27 | 43.93 | 1,186.11
Interviews with program participants | 15 | 1 | 1 | 1 | 15 | 43.93 | 658.95
Interview Total | 69 |  |  |  | 69 |  | 3,462.36
Informed consent to participate in the study—Government Stakeholders | 27 | 1 | 1 | 0.17 | 4.59 | 59.90 | 112.02
Informed consent to participate in the study—Community Stakeholders | 27 | 1 | 1 | 0.17 | 4.59 | 49.93 | 229.18
Informed consent to participate in the study—Program Participants | 15 | 1 | 1 | 0.17 | 2.55 | 49.93 | 127.32
Informed Consent Total | 69 |  |  |  | 11.73 |  | 595.84
Grand Total | 69 |  |  |  | 80.73 |  | 4,058.20

Respondent's Obligation: Participation is voluntary.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. 3507.

Todd M. Richardson,
General Deputy Assistant Secretary for Policy Development and Research.

[FR Doc. 2024-06655 Filed 3-27-24; 8:45 am]

BILLING CODE 4210-67-P